DEPARTMENT OF HOMELAND SECURITY

Federal Emergency Management Agency

[Docket ID FEMA-2019-0002; Internal Agency Docket No. FEMA-B-1954]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Adams | City of Thornton, (18-08-1051P) | The Honorable Heidi Williams, Mayor, City of Thornton, 9500 Civic Center Drive, Thornton, CO 80229 | City Hall, 12450 Washington Street, Thornton, CO 80241 | https://msc.fema.gov/portal/advanceSearch | Nov. 29, 2019 | 080007
Jefferson | City of Westminster, (18-08-1051P) | The Honorable Herb Atchison, Mayor, City of Westminster, 4800 West 92nd Avenue, Westminster, CO 80031 | City Hall, 4800 West 92nd Avenue, Westminster, CO 80031 | https://msc.fema.gov/portal/advanceSearch | Nov. 29, 2019 | 080008
Florida:
Hendry | Unincorporated areas of Hendry County, (18-04-7584P) | The Honorable Mitchell Wills, Chairman, Hendry County Board of Commissioners, P.O. Box 1760, LaBelle, FL 33975 | Hendry County Engineering Department, 99 East Cowboy Way, LaBelle, FL 33935 | https://msc.fema.gov/portal/advanceSearch | Nov. 22, 2019 | 120107
Lee | Unincorporated areas of Lee County, (18-04-7584P) | The Honorable Roger Desjarlais, Lee County Manager, P.O. Box 398, Fort Myers, FL 33902 | Lee County Department of Community Development, 1500 Monroe Street, Fort Myers, FL 33901 | https://msc.fema.gov/portal/advanceSearch | Nov. 22, 2019 | 125124
Georgia:
DeKalb | City of Dunwoody, (18-04-6945P) | The Honorable Denis Shortal, Mayor, City of Dunwoody, 4800 Ashford Dunwoody Road, Dunwoody, GA 30338 | Community Development Department, 4800 Ashford Dunwoody Road, Dunwoody, GA 30338 | https://msc.fema.gov/portal/advanceSearch | Nov. 22, 2019 | 130679
Fulton | City of Sandy Springs, (18-04-6945P) | The Honorable Rusty Paul, Mayor, City of Sandy Springs, 1 Galambos Way, Sandy Springs, GA 30328 | Community Development Department, 1 Galambos Way, Sandy Springs, GA 30328 | https://msc.fema.gov/portal/advanceSearch | Nov. 22, 2019 | 130669
Maryland:
Frederick | City of Frederick, (19-03-0460P) | The Honorable Michael O'Connor, Mayor, City of Frederick, 101 North Court Street, Frederick, MD 21701 | Public Works, Engineering Department, 140 West Patrick Street, Frederick, MD 21701 | https://msc.fema.gov/portal/advanceSearch | Nov. 19, 2019 | 240030
Frederick | Unincorporated areas of Frederick County, (19-03-0460P) | The Honorable Jan H. Gardner, Frederick County Executive, 12 East Church Street, Frederick, MD 21701 | Frederick County Department of Development Review, Zoning Administration, 30 North Market Street, Frederick, MD 21701 | https://msc.fema.gov/portal/advanceSearch | Nov. 19, 2019 | 240027
Oklahoma:
Bryan | Town of Calera, (19-06-0163P) | The Honorable Brenton Rucker, Mayor, Town of Calera, 110 West Main Street, Calera, OK 74730 | Town Hall, 110 West Main Street, Calera, OK 74730 | https://msc.fema.gov/portal/advanceSearch | Nov. 25, 2019 | 400354
Texas:
Bastrop | City of Bastrop (19-06-0976P) | The Honorable Connie Schroeder, Mayor, City of Bastrop, P.O. Box 427, Bastrop, TX 78602 | City Hall, 1311 Chestnut Street, Bastrop, TX 78602 | https://msc.fema.gov/portal/advanceSearch | Nov. 18, 2019 | 480022
Bastrop | Unincorporated areas of Bastrop County, (19-06-0976P) | The Honorable Paul Pape Bastrop County Judge, 804 Pecan Street, Bastrop, TX 78602 | Bastrop County Engineering and Development Department, 211 Jackson Street, Bastrop, TX 78602 | https://msc.fema.gov/portal/advanceSearch | Nov. 18, 2019 | 481193
Tarrant | City of Keller (19-06-1585P) | The Honorable Pat McGrail, Mayor, City of Keller, P.O. Box 770, Keller, TX 76244 | Public Works Department, 1100 Bear Creek Parkway, Keller, TX 76248 | https://msc.fema.gov/portal/advanceSearch | Oct. 24, 2019 | 480602
Tarrant | City of Mansfield, (19-06-0853P) | The Honorable David L. Cook, Mayor, City of Mansfield, 1200 East Broad Street, Mansfield, TX 76063 | Department of Zoning and Planning, 1200 East Broad Street, Mansfield, TX 76063 | https://msc.fema.gov/portal/advanceSearch | Nov. 29, 2019 | 480606
Travis | City of Manor, (19-06-0958P) | Mr. Thomas M. Bolt, Manager, City of Manor, P.O. Box 387, Manor, TX 78653 | City Hall, 105 East Eggleston Street, Manor, TX 78653 | https://msc.fema.gov/portal/advanceSearch | Dec. 2, 2019 | 481027

[FR Doc. 2019-17579 Filed 8-15-19; 8:45 am]

BILLING CODE 9110-12-P